DEPARTMENT OF COMMERCE

National Oceanic and Atmospheric Administration

RIN 0648-XC763

Gulf of Mexico Fishery Management Council; Public Meeting

AGENCY: National Marine Fisheries Service (NMFS), National Oceanic and Atmospheric Administration (NOAA), Commerce.

ACTION: Notice; Public Meetings.

SUMMARY: The Gulf of Mexico Fishery Management Council (Council) will hold a meeting of the Standing, Special Mackerel and Special Reef Fish Scientific and Statistical Committees (SSC).

DATES: The meeting will be held from 1 p.m. on Tuesday, August 6 until 12 noon on Thursday, August 8, 2013.

ADDRESSES: The meeting will be held at the Gulf of Mexico Fishery Management Council, 2203 North Lois Avenue, Suite 1100, Tampa, FL, 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the committee meeting agendas are as follows:

Standing and Special Mackerel SSC Agenda, Tuesday, August 6, 2013, 1 p.m. until 3 p.m.

1. Introductions and Adoption of Mackerel SSC Agenda

2. Approval of May 29, 2013 Standing and Special Mackerel SSC summary minutes

3. SEDAR 28 Spanish mackerel benchmark assessment results

a. Assessment results based on 30% SPR proxy for MSY

b. Review of weighted average PDFs

c. Consideration for approval of assessment

d. Recommendation of ABC

4. Overview of ongoing Coastal Migratory Pelagics Amendments

a. CMP Amendment 19—Bag limit sales, trip limits, latent gill net permits

b. CMP Amendment 20—Boundaries, transit provision

5. Other business

Standing and Special Reef Fish SSC Agenda, Tuesday, August 6, 2013, 3 p.m. Until 5 p.m.; Wednesday, August 7, 2013, 8:30 a.m. Until 5 p.m.; Thursday, August 8, 2013, 8:30 a.m. Until 12 Noon

1. Approval of May 29-31, 2013 Standing and Special Reef Fish SSC summary minutes

2. MRIP Revisions of OFLs and ABCs for Several Species and Species Groupings

a. Summary of Draft Framework Action

b. Review of methodology for revising OFLs and ABCs

c. Recommendations for OFLs and ABCs

3. Gray Triggerfish Review

a. Updated indices of abundance and yield projections

b. Consideration of ABC revision for 2014

4. Red Snapper 2013-2015 ABCs under 2013 Quota Alternatives

a. Yield projections

b. Consideration of ABC revision for 2014—Patterson

5. ABC Control Rule Revisions

a. Tier structure of ABC control rule

b. Tier 3 revisions (e.g., Martell et al.)

c. Incorporating Scientific Uncertainty into the PDF

d. Other control rule considerations

6. Overview of ongoing Reef Fish Actions

a. Red snapper allocation

b. Red snapper IFQ revisions

c. Amendment 39—Regional management of recreational red snapper

d. Intersector trading of allocations

e. Definition of for-hire fishing

7. Selection of SSC representative at August 26-30, 2013 Council meeting

8. Other business

a. Review of SEDAR Assessment Schedule/Priorities

For meeting materials see folder “SSC meeting—2013-08” on Gulf Council ftp server: http://ftp.gulfcouncil.org?user=anonymous; or by calling (813) 348-1630.

Although other non-emergency issues not on the agenda may come before the Scientific and Statistical Committees for discussion, in accordance with the Magnuson-Stevens Fishery Conservation and Management Act, those issues may not be the subject of formal action during these meetings. Actions of the Scientific and Statistical Committees will be restricted to those issues specifically identified in the agenda and any issues arising after publication of this notice that require emergency action under section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: July 16, 2013.
Tracey L. Thompson,
Acting Deputy Director, Office of Sustainable Fisheries, National Marine Fisheries Service.

[FR Doc. 2013-17332 Filed 7-18-13; 8:45 am]

BILLING CODE 3510-22-P